DEPARTMENT OF ENERGY

Federal Energy Regulatory Commission

[Docket No. RP01-172-002]

Mojave Pipeline Co.; Notice of Filing To Update Statements and Schedules

March 28, 2001.

Take notice that on March 22, 2001, Mojave Pipeline Company (Mojave) tendered for filing certain statements and schedules updating test period data filed at Docket No. RP01-172-000.

Mojave states that the statements and schedules submitted have been updated to replace test period data with actual data for each month of the four month adjustment period initially filed in Mojave's general rate proceeding.

Any person desiring to protest said filing should file a protest with the Federal Energy Regulatory Commission, 888 First Street, NE., Washington, DC 20426, in accordance with section 385.211 of the Commission's Rules and Regulations. All such protests must be filed on or before April 4, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-8114 Filed 4-2-01; 8:45 am]

BILLING CODE 6717-01-M